ENVIRONMENTAL PROTECTION AGENCY

[ER-FRL-9030-3]

Environmental Impact Statements; Notice of Availability

Responsible Agency: Office of Federal Activities, General Information (202) 564-7146 or http://www.epa.gov/nepa.

Weekly receipt of Environmental Impact Statements (EISs)

Filed 11/07/2016 Through 11/11/2016

Pursuant to 40 CFR 1506.9

Notice:

Section 309(a) of the Clean Air Act requires that EPA make public its comments on EISs issued by other Federal agencies. EPA's comment letters on EISs are available at: http://www.epa.gov/compliance/nepa/eisdata.html

EIS No. 20160269, Draft, USAF, IN, KC-46A Third Main Operating Base (MOB-3) Beddown, Comment Period Ends: 01/03/2017, Contact: Hamid Kamalpour 210-925-3001

EIS No. 20160270, Final, FTA, WA, Federal Way Link Extension, Review Period Ends: 12/19/2016, Contact: Daniel Drais 206-220-7954

EIS No. 20160271, Draft, BLM, ID, Bruneau-Owyhee Sage-Grouse Habitat Project (BOSH), Comment Period Ends: 01/03/2017, Contact: Michael McGee 208-384-3464

EIS No. 20160272, Final Supplement, USFS, CO, Rulemaking for Colorado Roadless Areas, Review Period Ends: 12/19/2016, Contact: Jason Robertson 303-275-5470

Amended Notices:

EIS No. 20160200, Draft, USACE, NY, Atlantic Coast of New York, East Rockaway Inlet to Rockaway Inlet and Jamaica Bay, Comment Period Ends: 12/02/2016, Contact: Robert J. Smith 917-790-8729

Revision to Federal Register Notice Published 09/02/2016; Extending Comment Period from 11/17/2016 to 12/02/2016

Dated: November 15, 2016.
Karin Leff,
Acting Director, NEPA Compliance Division, Office of Federal Activities.

[FR Doc. 2016-27845 Filed 11-17-16; 8:45 am]

BILLING CODE 6560-50-P